DEPARTMENT OF COMMERCE

Foreign-Trade Zones Board

[S-26-2026]

Foreign-Trade Zone 68; Application for Subzone; PMI Services North America, Inc.; El Paso, Texas

An application has been submitted to the Foreign-Trade Zones (FTZ) Board by the City of El Paso, grantee of FTZ 68, requesting subzone status for the facility of PMI Services North America, Inc., located in El Paso, Texas. The application was submitted pursuant to the provisions of the Foreign-Trade Zones Act, as amended (19 U.S.C. 81a-81u), and the regulations of the FTZ Board (15 CFR part 400). It was formally docketed on January 26, 2026.

The proposed subzone (12.65 acres) is located at 13551-B Montana Avenue, El Paso, Texas. No authorization for production activity has been requested at this time. The proposed subzone would be subject to the existing activation limit of FTZ 68.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is March 9, 2026. Rebuttal comments in response to material submitted during the foregoing period may be submitted through March 24, 2026.

A copy of the application will be available for public inspection in the “Online FTZ Information Section” section of the FTZ Board's website, which is accessible via www.trade.gov/ftz.

For further information, contact Camille Evans at Camille.Evans@trade.gov.

Dated: January 26, 2026.
Elizabeth Whiteman,
Executive Secretary.

[FR Doc. 2026-01702 Filed 1-27-26; 8:45 am]

BILLING CODE 3510-DS-P